DEPARTMENT OF THE INTERIOR

Fish and Wildlife Service

[FWS-R4-R-2009-N172; 40136-1265-0000-S3]

Mandalay National Wildlife Refuge, Terrebonne Parish, LA

AGENCY: Fish and Wildlife Service, Interior.

ACTION: Notice of availability: Final comprehensive conservation plan and finding of no significant impact.

SUMMARY: We, the Fish and Wildlife Service (Service), announce the availability of our final comprehensive conservation plan (CCP) and finding of no significant impact (FONSI) for the environmental assessment for Mandalay National Wildlife Refuge (NWR). In the final CCP, we describe how we will manage this refuge for the next 15 years.

ADDRESSES: You may obtain a copy of the CCP by writing to: Mr. Paul Yakupzack, Refuge Manager, Mandalay NWR, 3599 Bayou Black Drive, Houma, LA 70360. You may also access and download the document from the Service's Web site: http://southeast.fws.gov/planning.

FOR FURTHER INFORMATION CONTACT: Mr. Paul Yakupzack; telephone: 985/853-1078; fax: 985/853-1079; e-mail: paul_yakupzack@fws.gov.

SUPPLEMENTARY INFORMATION:

Introduction

With this notice, we finalize the CCP process for Mandalay NWR. We started this process through a notice in the Federal Register on March 19, 2007 (72 FR 12811). For more about the process, see that notice. .

Mandalay NWR, approximately 5 miles west of Houma, Louisiana, was established on May 2, 1996, with the purchase of 4,416 acres under the authority of the Migratory Bird Conservation Act of 1929 and the Endangered Species Act of 1973. The refuge, predominately freshwater marsh and cypress-tupelo swamp, provides excellent habitat for waterfowl, wading birds, and neotropical migratory songbirds.

We announce our decision and the availability of the final CCP and FONSI for Mandalay NWR in accordance with the National Environmental Policy Act (NEPA) [40 CFR 1506.6(b)] requirements. We completed a thorough analysis of impacts on the human environment, which we included in the draft comprehensive conservation plan and environmental assessment (Draft CCP/EA). The CCP will guide us in managing and administering Mandalay NWR for the next 15 years.

The compatibility determinations for boating, recreational fishing, recreational hunting, wildlife observation/photography, control of mammals (nutria) and alligators, and environmental education/interpretation are available in the CCP.

Background

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every15 years in accordance with the Administration Act.

Comments

Approximately 100 copies of the Draft CCP/EA were made available for a 30-day public review period as announced in the Federal Register on May 28, 2009 (74 FR 25577). We received 11 comments from local citizens, the Safari Club, the Louisiana Department of Wildlife and Fisheries, and the Louisiana Department of Natural Resources.

Selected Alternative

After considering the comments we received, and based on the professional judgment of the planning team, we selected Alternative B to implement the CCP. The primary focus of the CCP is to optimize migratory bird and resident wildlife habitats. We consider Alternative B to be the most effective for meeting the purposes of the refuge by maintaining and enhancing a diversity of habitats for a variety of fish and wildlife species, enhancing resident wildlife populations, restoring wetlands, and providing opportunities for a variety of compatible wildlife-dependent recreation, education, and interpretive activities.

Authority

This notice is published under the authority of the National Wildlife Refuge System Improvement Act of 1997, Public Law 105-57.

Dated: August 24, 2009.
Patrick Leonard,
Acting Regional Director.

[FR Doc. E9-29866 Filed 12-15-09; 8:45 am]

BILLING CODE 4310-55-P